AGENCY FOR INTERNATIONAL DEVELOPMENT

60-Day Notice of Public Information Collection

AGENCY: U.S. Agency for International Development.

ACTION: Notice of public information collection.

SUMMARY: The U.S. Agency for International Development (USAID) seeks Office of Management and Budget (OMB) approval for the information collection described below. In accordance with the Paperwork Reduction Act of 1995, USAID requests public comment on this collection from all interested individuals and organizations.

DATES: Submit comments on or before November 22, 2024.

ADDRESSES: Written comments and recommendations for the proposed information collection should be sent within 60 days of publication of this notice to https://www.reginfo.gov/public/do/PRAMain. Find this particular information collection by selecting “Currently under Review—Open for Public Comments” or by using the search function.

FOR FURTHER INFORMATION CONTACT: Wayne Cohee, at (202) 230-4575 or via email at policymailbox@usaid.gov.

SUPPLEMENTARY INFORMATION: The purpose of this notice is to allow 60 days for public comment preceding submission of the collections to OMB. USAID previously received approval, under OMB approval number 0412-0510, for information collection required under USAID's Standard Provisions in its Automated Directives System (ADS) Chapter 303, USAID Grants and Cooperative Agreements to Non-Governmental Organizations. USAID will be adding three new Standard Provisions to ADS Chapter 303 later in calendar year 2024, entitled: 1. Activity Monitoring, Evaluation, and Learning Plans (AMELPs); 2. Planning, Collection, and Submission of Digital Information to USAID With Data Management Plan (DMP); and 3. Planning, Collection, and Submission of Digital Information to USAID Without Data Management Plan (DMP). These three new Standard Provisions require information collection approval under the Paperwork Reduction Act. USAID thus, for purposes of organization and efficiency, seeks approval for this new information collection via revision to the existing OMB approval for ADS Chapter 303 information collection (0412-0510). Estimated annual responses, estimated annual burden hours, and estimated total public burden (in cost) for the new information collection are listed later in this notice.

All comments must be in writing and submitted through the method(s) specified in the Addresses section above. All submissions must include the information collection title. Please include your name, title, organization, postal address telephone number, and email address in the text of the message. Please note that comments submitted in response to this Notice are public record. We recommend that you do not submit detailed personal information, Confidential Business Information, or any information that is otherwise protected from disclosure by statute. USAID will only address comments that explain why the proposed collection would be inappropriate, ineffective, or unacceptable without a change. Comments that are insubstantial or outside the scope of the notice of request for public comment may not be considered.

OMB No: 0412-0510.

Form: No Form associated with this collection.

Title of Information Collection: United States Agency for International Development (USAID) Automated Directives System (ADS) Chapter 303 Standard Provisions Information Collection.

Type of Review: Revision of a currently approved collection (OMB No. 0412-0510).

Purpose: USAID is authorized to make grants to and enter cooperative agreements with Non-Governmental Organizations in or outside of the United States in furtherance of the purposes and within limitations of the Foreign Assistance Act (FAA). The information collection requirements placed on the public are published in Standard Provisions that are included, as required or as applicable, in Notices of Funding Opportunities to potential applicants and resulting awards to recipients. The pre-award requirements are based on a need for prudent management in the determination that an applicant either has or can obtain the ability to competently manage development assistance programs using public funds. The requirements for information collection during the post-award period are based on the need to prudently administer public funds.

Respondents: USAID grant and cooperative agreement applicants and recipients.

For the three new Standard Provisions:

Estimated Number of Annual Responses: 2,525.

Estimated Number of Annual Burden Hours: 123,725.

Estimated total public burden (in cost): $7,299,775.

These estimated totals were calculated using the below burden estimates per response for each of the named Standard Provisions, which are published internally in the Agency's Automated Directives System (ADS) Chapter 303 and included by Agreement Officers, as required or as applicable, in Notices of Funding Opportunities and resulting awards:

Activity Monitoring, Evaluation, and Learning Plan (TBD 2024)—65 hours.

Submission of Digital Information with a Data Management Plan (TBD 2024)—53 hours.

Submission of Digital Information without a Data Management Plan (TBD 2024)—9 hours.

Jami J. Rodgers,
Senior Procurement Executive, USAID.

[FR Doc. 2024-21650 Filed 9-20-24; 8:45 am]

BILLING CODE 6116-01-P